FEDERAL ELECTION COMMISSION

[NOTICE 2011-07]

Filing Dates for the Nevada Special Election in the 2nd Congressional District

AGENCY: Federal Election Commission.

ACTION: Notice of filing dates for special party nominating caucuses.

SUMMARY: On May 19, 2011, a Nevada state court ruled in Nevada Republican Party v. State of Nevada, case no. 11 OC 001471B, that Nevada's Secretary of State may not place members of major or minor political parties on the special general election ballot until candidates are designated by their respective political parties. The Nevada Republican and Democratic state central committees will select their parties' nominees at Special Party Caucuses on June 18, 2011, and June 25, 2011, respectively. Due to this development, the Commission is issuing filing dates for these caucuses.¹ Committees required to file reports in connection with the Republican and Democratic caucuses shall file a 12-day Pre-Caucus report.

¹ The State of Nevada, through Secretary of State Ross Miller, and the Nevada State Democratic Party filed Notices of Appeal with the Nevada Supreme Court on May 23, 2011, to challenge the district court's decision in Nevada Republican Party v. State of Nevada, case no. 11 OC 001471B. The Commission cautions that the need for filing dates for these caucuses may be affected by a decision of the Nevada Supreme Court.

FOR FURTHER INFORMATION CONTACT: Mr. Kevin R. Salley, Information Division, 999 E Street, NW., Washington, DC 20463; Telephone: (202) 694-1100; Toll Free (800) 424-9530.

SUPPLEMENTARY INFORMATION: On May 12, 2011, the Commission approved the filing dates for the Special General Election in the Second Congressional District to fill the U.S. House seat in the Second Congressional District formerly held by Senator Dean Heller to be held on September 13, 2011. When the Commission approved the filing dates for the special general election, the special general election ballot was to be open to all qualified candidates, regardless of party, and the candidate filing deadline for ballot access was May 25, 2011. On May 19, 2011, the First Judicial District Court of Nevada ruled that Nevada's Secretary of State may not place members of major or minor political parties on the special general election ballot until candidates are designated by their respective political parties. The major political parties, Republican and Democratic, will select their nominees for the special general election at Special Party Caucuses on June 18, 2011, and June 25, 2011, respectively, and minor parties will select their nominees at executive committee meetings. Committees required to file reports in connection with the Special Republican Party Caucus on June 18, 2011, or the Special Democratic Party Caucus on June 25, 2011, shall file a 12-day Pre-Caucus Report.

Principal Campaign Committees

Special Republican Party Caucus

All principal campaign committees of candidates who participate in the Nevada Special Republican Party Caucus shall file a 12-day Pre-Caucus Report on June 6, 2011. (See chart below for the closing date for each report).

Note that this report is in addition to the campaign committee's quarterly filing in July. (See chart below for the closing date for each report).

Special Democratic Party Caucus

All principal campaign committees of candidates who participate in the Nevada Special Democratic Party Caucus shall file a 12-day Pre-Caucus Report on June 13, 2011. (See chart below for the closing date for each report).

Note that this report is in addition to the campaign committee's quarterly filing in July. (See chart below for the closing date for each report).

The reporting requirements in connection with the Nevada Special General Election were published in the Federal Register on May 23, 2011 (76 FR 29750).

Unauthorized Committees (PACs and Party Committees)

Political committees filing on a semi-annual basis in 2011 are subject to special election reporting if they make previously undisclosed contributions or expenditures in connection with the Nevada Special Republican Party Caucus or Nevada Special Democratic Party Caucus by the close of books for the applicable report(s). (See chart below for the closing date for each report).

Committees filing monthly that make contributions or expenditures in connection with the Nevada Special Republican Party Caucus or Nevada Special Democratic Party Caucus will continue to file according to the monthly reporting schedule.

The reporting requirements in connection with the Nevada Special General Election were published in the Federal Register on May 23, 2011 (76 FR 29750).

Additional disclosure information in connection with the Nevada Special Election may be found on the FEC Web site at http://www.fec.gov/info/report_dates_2011.shtml.

Disclosure of Lobbyist Bundling Activity

Campaign committees, party committees and Leadership PACs that are otherwise required to file reports in connection with the special elections must simultaneously file FEC Form 3L if they receive two or more bundled contributions from lobbyists/registrants or lobbyist/registrant PACs that aggregate in excess of $16,200 during the special election reporting periods (see charts below for closing date of each period). 11 CFR 104.22(a)(5)(v).

Calendar of Reporting Dates for Nevada Special Election
Report | Close of books ² | Reg./cert. & overnight filing mailing deadline deadline | Filing deadline
QUARTERLY FILING POLITICAL COMMITTEES INVOLVED IN THE SPECIAL REPUBLICAN PARTY CAUCUS (06/18/11) MUST FILE:
Pre-Caucus | 05/29/11 | 06/03/11 | 06/06/11
July Quarterly | 06/30/11 | 07/15/11 | 07/15/11
SEMI-ANNUAL FILING POLITICAL COMMITTEES INVOLVED IN THE SPECIAL REPUBLICAN PARTY CAUCUS (06/18/11) MUST FILE:
Pre-Caucus | 05/29/11 | 06/03/11 | 06/06/11
Mid-Year | 06/30/11 | 07/31/11 | 07/31/11
QUARTERLY FILING POLITICAL COMMITTEES INVOLVED IN THE SPECIAL DEMOCRATIC PARTY CAUCUS (06/25/11) MUST FILE:
Pre-Caucus | 06/05/11 | 06/10/11 | 06/13/11
July Quarterly | 06/30/11 | 07/15/11 | 07/15/11
SEMI-ANNUAL FILING POLITICAL COMMITTEES INVOLVED IN THE SPECIAL DEMOCRATIC PARTY CAUCUS (06/25/11) MUST FILE:
Pre-Caucus | 06/05/11 | 06/10/11 | 06/13/11
Mid-Year | 06/30/11 | 07/31/11 | 07/31/11
² These dates indicate the beginning and the end of the reporting period. A reporting period always begins the day after the closing date of the last report filed. If the committee is new and has not previously filed a report, the first report must cover all activity that occurred before the committee registered as a political committee with the Commission up through the close of books for the first report due.

Dated: June 2, 2011.
On behalf of the Commission.
Steven T. Walther,
Commissioner, Federal Election Commission.

[FR Doc. 2011-14097 Filed 6-7-11; 8:45 am]

BILLING CODE 6715-01-P